DEPARTMENT OF DEFENSE

Department of the Air Force

[Docket ID: USAF-2022-HQ-0004]

Submission for OMB Review; Comment Request

AGENCY: Department of the Air Force, Department of Defense (DoD).

ACTION: Emergency 10-day information collection notice.

SUMMARY: Consistent with the Paperwork Reduction Act of 1995 and its implementing regulations, this document provides notice that DoD is submitting an Information Collection Request to the Office of Management and Budget (OMB) to understand the senior level perspectives as it relates to direct or indirect barriers women face in advancing to executive leadership. DoD requests emergency processing and OMB authorization to collect the information after publication of this notice for a period of six months.

DATES: Comments must be received by March 28, 2022.

ADDRESSES: The Department has requested emergency processing from OMB for this information collection request by 10 days after publication of this notice. Interested parties can access the supporting materials and collection instrument as well as submit comments and recommendations to OMB at www.reginfo.gov/public/do/PRAMain. Find this particular information collection by selecting “Currently under 10-day Review—Open for Public Comments” or by using the search function. Comments submitted in response to this notice will be summarized and included in the request for OMB approval of this information collection. They will also become a matter of public record.

FOR FURTHER INFORMATION CONTACT: Angela Duncan, 571-372-7574, or whs.mc-alex.esd.mbx.dd-dod-information-collections@mail.mil.

SUPPLEMENTARY INFORMATION: The survey is based on initial research conducted by Ms. Wanda Jones-Heath that highlighted women may experience challenges or obstacles associated with gender gap, placement in non-leadership roles, gender bias, stereotyping, and skills being underrated during their journey to executive leader opportunities. The 2020 Department of the Air Force (DAF) Racial Disparity Review highlighted the fact that the DAF has not maintained a diverse senior civilian workforce (GS13-SES level) and women are significantly underrepresented at the senior level. The 2021 DAF Disparity Review specifically calls outs gender as a significant challenge at the senior level. In addition, the civilian career progression line of effort under the barrier analysis working group is providing barrier and challenge information from the lower level viewpoint. If the survey is not conducted, then the research project will not include both views which will be vital to helping the DAF understand the barriers and determine specific actions (policy, programs, etc.) needed to provide more opportunities to women. The survey is a list of 13 questions using the Likert Scale that asks participants to provide their opinion on the barriers that limit opportunities for women to gain senior leadership positions. The participation is voluntary and the responses are completely anonymous. The responses will provide perspectives that would otherwise not be available through literature review.

Title; Associated Form; and OMB Number: The Underrepresentation of Women in Executive Leadership Survey; OMB Control Number 0701-UWEL.

Survey

Type of Request: Emergency.

Number of Respondents: 75.

Responses per Respondent: 1.

Annual Responses: 75.

Average Burden per Response: 15 minutes.

Annual Burden Hours: 18.75 hours.

Interviews

Number of Respondents: 16.

Responses per Respondent: 1.

Annual Responses: 16.

Average Burden per Response: 40 minutes.

Annual Burden Hours: 10.67 hours.

Totals

Number of Respondents: 75.

Responses per Respondent: 1.2.

Annual Responses: 91.

Average Burden per Response: 19.4 minutes.

Annual Burden Hours: 29.42 hours.

Affected Public: Individuals or households.

Frequency: Once.

Respondent's Obligation: Voluntary.

Request for Comments

Comments are invited on: (1) Whether the proposed collection of information is necessary for the proper performance of the functions of DoD, including whether the information collected has practical utility; (2) the accuracy of DoD's estimate of the burden (including hours and cost) of the proposed collection of information; (3) ways to enhance the quality, utility, and clarity of the information to be collected; and (4) ways to minimize the burden of the collection of information on respondents, including automated collection techniques or the use of other forms of information technology.

Dated: March 15, 2022.
Aaron T. Siegel,
Alternate OSD Federal Register Liaison Officer, Department of Defense.

[FR Doc. 2022-05791 Filed 3-17-22; 8:45 am]

BILLING CODE 5001-06-P